DEPARTMENT OF THE TREASURY

Agency Information Collection Activities; Proposed Collection; Comment Request; Solicitation of Proposal Information for Award of Public Contracts

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before January 27, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: Title: Solicitation of Proposal Information for Award of Public Contracts.

OMB Control Number: 1505-0081.

Type of Review: Extension of a currently approved collection.

Description: Treasury Bureaus and the Office of the Procurement Executive collect information when inviting firms to submit proposals for public contracts for supplies and services. The information collection is necessary for compliance with the Federal Property and Administrative Services Act (41 U.S.C. 251 et seq.), the Federal Acquisition Regulation (FAR) (48 CFR Chapter 1) and applicable acquisition regulations. Information requested of offerors is specific to each procurement solicitation, and is required for Treasury to properly evaluate the capabilities and experience of potential contractors who desire to provide the supplies or services to be acquired.

Forms: None.

Affected Public: Businesses and other for-profits.

Estimated Number of Respondents: 20,946.

Frequency of Response: On occasion.

Estimated Total Number of Annual Responses: 20,946.

Estimated Time per Response: 10.48 hours.

Estimated Total Annual Burden Hours: 217,812.

Authority: 44 U.S.C. 3501 et seq.

Dated: December 22, 2021.
Molly Stasko,
Treasury PRA Clearance Officer.

[FR Doc. 2021-28221 Filed 12-27-21; 8:45 am]

BILLING CODE 4810-AK-P